NUCLEAR REGULATORY COMMISSION

[Docket No. 52-017; NRC-2008-0149]

Virginia Electric and Power Company d/b/a/Dominion Virginia Power, and Old Dominion Electric Cooperative; Notice of Availability of the Final Supplemental Environmental Impact Statement for North Anna Power Station Unit 3 Combined License Application

Notice is hereby given that the U.S. Nuclear Regulatory Commission (NRC) has published a final Supplemental Environmental Impact Statement (SEIS), NUREG-1917, for the North Anna, Unit 3 Combined License (COL) application. The SEIS is a supplement to the Environmental Impact Statement (EIS) for an Early Site Permit (ESP) at the North Anna ESP Site, NUREG-1811, dated December 2006. The North Anna Site is located near the Town of Mineral in Louisa County, VA, on the southern shore of Lake Anna. A notice of availability of the draft SEIS was published in the Federal Register on December 24, 2008 (73 FR 79196). The purpose of this notice is to inform the public that the final SEIS, NUREG-1917 for the North Anna, Unit 3 COL application is available for public inspection in the NRC Public Document Room (PDR) located at One White Flint North, 11555 Rockville Pike (First Floor), Rockville, MD 20852 or from the Publicly Available Records (PARS) component of NRC Agencywide Documents Access and Management System (ADAMS). ADAMS is accessible from the NRC Web site at http://www.nrc.gov/reading-rm/adams.html which provides access through the NRC Electronic Reading Room link. The accession number in ADAMS for the final SEIS, NUREG-1917 is ML100680117. Persons who do not have access to ADAMS or who encounter problems in accessing the documents located in ADAMS should contact the PDR reference staff by telephone at 1-800-397-4209 and 1-301-415-4737 or by sending an e-mail to pdr.resource@nrc.gov. The final SEIS may also be viewed on the Internet at: http://www.nrc.gov/reactors/new-reactors/col/north-anna.html. In addition, the following public libraries in the vicinity of the North Anna Site have agreed to make the final SEIS available for public inspection: Jefferson-Madison Regional Library in Mineral, VA; Hanover Branch Library (Pamunkey) in Hanover, VA; Orange County Library in Orange, VA; Salem Church Library in Fredericksburg, VA; and C. Melvin Snow Memorial Branch Library in Spotsylvania, VA.

For Further Information, Contact: Alicia Williamson, Project Manager, Environmental Projects Branch 1, Division of Site and Environmental Reviews, Office of New Reactors, U.S. Nuclear Regulatory Commission, Washington, DC 20555-0001. Ms. Williamson may be contacted by telephone at 301-415-1878 or by e-mail to Alicia.Williamson@nrc.gov.

Dated at Rockville, Maryland, this 17th day of March 2010.
For the Nuclear Regulatory Commission.
Scott Flanders,
Director, Division of Site and Environmental Reviews, Office of New Reactors.

[FR Doc. 2010-6499 Filed 3-23-10; 8:45 am]

BILLING CODE 7590-01-P